DEPARTMENT OF COMMERCE

International Trade Administration

[A-588-874]

Certain Hot-Rolled Steel Flat Products From Japan: Final Results of Antidumping Duty Administrative Review; 2020-2021

AGENCY: Enforcement and Compliance, International Trade Administration, Department of Commerce.

SUMMARY: The U.S. Department of Commerce (Commerce) determines that Nippon Steel Corporation (NSC), producer and exporter of hot-rolled steel flat products (hot-rolled steel) from Japan, sold subject merchandise in the United States at prices below normal value during the period of review (POR) October 1, 2020, through September 30, 2021.

DATES: Applicable May 4, 2023.

FOR FURTHER INFORMATION CONTACT: Jun Jack Zhao AD/CVD Operations, Office VII, Enforcement and Compliance, International Trade Administration, U.S. Department of Commerce, 1401 Constitution Avenue NW, Washington, DC 20230; telephone: (202) 482-1396.

SUPPLEMENTARY INFORMATION:

Background

On November 2, 2022, Commerce published the Preliminary Results of this review in the Federal Register.¹ We invited interested parties to comment on the Preliminary Results. Between December 2 and 9, 2022, Commerce received timely filed briefs and rebuttal briefs from NSC, Nucor (the petitioner), and Tokyo Steel Manufacturing Co., Ltd. (Tokyo Steel) and Optima Steel International, LLC.² On December 2, 2022, Commerce received hearing requests from NSC and Nucor.³ On December 16, 2022 and February 10, 2023, NSC and Nucor each withdrew its hearing request, respectively.⁴

¹ See Certain Hot-Rolled Steel Flat Products from Japan: Preliminary Results of Antidumping Duty Administrative; 2020-2021; 87 FR 66130 (November 2, 2022) (Preliminary Results), and accompanying Preliminary Decision Memorandum (PDM).

² See NSC's Letter, “NSC's Case Brief,” dated December 2, 2022; Nucor's Letter, “Nucor's Case Brief,” dated December 2, 2022; Tokyo Steel's Letter, “Tokyo Steel Manufacturing Co., Ltd. and Optima Steel International LLC's Case Brief,” dated December 2, 2022; NSC's Letter, “NSC's Rebuttal Brief,” dated December 9, 2022; Nucor's Letter, “Nucor's Rebuttal Brief,” dated December 9, 2022.

³ See NSC's Letter, “NSC's Hearing Request,” dated December 2, 2022; Nucor's Letter, “Request for Hearing,” dated December 2, 2022.

⁴ See NSC's Letter, “Withdrawl of NSC's Hearing Request,” dated December 16, 2022; Nucor's Letter, “Withdrawal of Request for Hearing,” dated February 10, 2023.

On February 13, 2023, we extended the deadline for the final results, in accordance with section 751(a)(3)(A) of the Tariff Act of 1930, as amended (the Act), and 19 CFR 351.213(h)(2).⁵ The deadline for the final results of this review is April 28, 2023.

⁵ See Memorandum, “Extension of Deadline for Final Results of Antidumping Duty Administrative Review; 2020-2021,” dated February 13, 2023.

These final results cover two producers and/or exporters of subject merchandise.⁶ Based on an analysis of the comments received, we made certain changes to the weighted-average dumping margins determined for NSC. The weighted-average dumping margins are listed in the “Final Results of Review” section, below. Commerce conducted this review in accordance with section 751(a) of the Act.

⁶ See Initiation of Antidumping and Countervailing Duty Administrative Reviews, 86 FR 67685 (November 29, 2021).

Scope of the Order ⁷

⁷ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

The merchandise covered by the Order is certain hot-rolled steel flat products. For a complete description of the scope of the Order, see the Issues and Decision Memorandum.⁸

⁸ See Memorandum, “Issues and Decision Memorandum for the Final Results of the Antidumping Duty Administrative Review: Certain Hot-Rolled Steel Flat Products from Japan; 2020-2021,” dated concurrently with, and hereby adopted by, this notice (Issues and Decision Memorandum).

Analysis of Comments Received

We addressed all issues raised in the case and rebuttal briefs in the Issues and Decision Memorandum, which is hereby adopted with this notice. The issues are identified in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review and analysis of the comments received from parties, we made certain changes to NSC's margin calculations. For a discussion of these changes, see the Issues and Decision Memorandum.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we have calculated a weighted-average dumping margin for NSC that is not zero, de minimis, or determined entirely on the basis of facts available. Accordingly, Commerce has assigned to the non-examined company, Tokyo Steel, a margin of 7.72 percent, which is NSC's calculated weighted-average dumping margin.

Final Results of Review

We are assigning the following weighted-average dumping margins to the firms listed below for the period October 1, 2020, through September 30, 2021:

⁹ Commerce found in a changed circumstances review that NSC, Nippon Steel Nisshin Co., Ltd., and Nippon Steel Trading Corporation are affiliated companies that should be treated as a single entity and as the successor-in-interest to Nippon Steel & Sumitomo Metal Corporation, Nisshin Steel Co., Ltd., and Nippon Steel & Sumikin Bussan Corporation, respectively. See Certain Hot-Rolled Steel Flat Products from Japan: Notice of Final Results of Antidumping Duty Changed Circumstances Review, 84 FR 46713 (September 5, 2019). Because there is no information on the record of this administrative review that would lead us to revisit this determination, we are continuing to treat these companies as part of a single entity for the purposes of this administrative review.

Exporter/producer | Weighted- average dumping margin (percent)
Nippon Steel Corporation/Nippon Steel Nisshin Co., Ltd./Nippon Steel Trading Corporation ⁹ | 7.72
Tokyo Steel Manufacturing Co., Ltd. | 7.72

Assessment

Consistent with its recent notice,¹⁰ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁰ See Notice of Discontinuation of Policy to Issue Liquidation Instructions After 15 Days in Applicable Antidumping and Countervailing Duly Administrative Proceedings, 86 FR 3995 (January 15, 2021).

Where the respondent reported reliable entered values, we calculated importer—(or customer-) specific ad valorem rates by aggregating the dumping margins calculated for all U.S. sales to each importer (or customer) and dividing this amount by the total entered value of the sales to each importer (or customer).¹¹ Where Commerce calculated a weighted-average dumping margin by dividing the total amount of dumping for reviewed sales to that party by the total sales quantity associated with those transactions, Commerce will direct CBP to assess importer- (or customer-) specific assessment rates based on the resulting per-unit rates.¹² Where an importer- (or customer-) specific ad valorem or per-unit rate is greater than de minimis (i.e., 0.50 percent), Commerce will instruct CBP to collect the appropriate duties at the time of liquidation.¹³ Where an importer- (or customer-) specific ad valorem or per-unit rate is zero or de minimis, Commerce will instruct CBP to liquidate appropriate entries without regard to antidumping duties.¹⁴

¹¹ See 19 CFR 351.212(b)(1).

¹² Id.

¹³ Id.

¹⁴ See 19 CFR 351.106(c)(2).

For the company which were not selected for individual review, we will assign an assessment rate based on the methodology described in the “Rates for Non-Examined Companies” section, above.

Consistent with Commerce's assessment practice, for entries of subject merchandise during the POR produced by NSC, or the non-examined companies for which the producer did not know that its merchandise was destined for the United States, we will instruct CBP to liquidate unreviewed entries at the all-others rate if there is no rate for the intermediate company(ies) involved in the transaction.¹⁵

¹⁵ For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review, as provided for by section 751(a)(2)(C) of the Act: (1) the cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 5.58 percent,¹⁶ the all-others rate established in the LTFV investigation. These cash deposit requirements, when imposed, shall remain in effect until further notice.

¹⁶ See Certain Hot-Rolled Steel Flat Products from Japan: Final Determination of Sales at Less Than Fair Value and Final Affirmative Determination of Critical Circumstances, 81 FR 53409 (August 12, 2016).

Notification to Importers

This notice serves as a final reminder to importers of their responsibility under 19 CFR 351.402(f)(2) to file a certificate regarding the reimbursement of antidumping duties prior to liquidation of the relevant entries during this POR. Failure to comply with this requirement could result in the presumption that reimbursement of antidumping duties occurred and the subsequent assessment of double antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results in accordance with sections 751(a)(1) and 777(i)(1) of the Act and 19 CFR 351.213(h) and 351.221(b)(5) of Commerce's regulations.

Dated: April 28, 2023.
Lisa W. Wang,
Assistant Secretary for Enforcement and Compliance.

Appendix I

List of Topics Discussed in the Issues and Decision Memorandum

I. Summary

II. Background

III. Scope of the Order

IV. Changes Since the Preliminary Results

V. Discussion of the Issues

Comment 1: Whether Commerce Should Deduct Section 232 Duties From U.S. Price

Comment 2: Whether Commerce Erred in Applying its Differential Pricing Analysis

Comment 3: Whether Commerce Should Include Certain U.S. and Home Market Sales in its Calculation of NSC's Dumping Margin

Comment 4: Whether Commerce Should Include Certain U.S. Revenue Fields for Certain Extra Services in Calculating NSC's Dumping Margin

Comment 5: Whether NSC's Fees Paid to Unaffiliated Trading Companies Should Be Treated as Commissions

Comment 6: Whether Commerce Should Calculate a Company Specific AD Assessment Rate for Tokyo Steel

VI. Recommendation

[FR Doc. 2023-09508 Filed 5-3-23; 8:45 am]

BILLING CODE 3510-DS-P